DEPARTMENT OF TRANSPORTATION

Office of the Secretary

[Docket No. DOT-OST-2004-16951]

Agency Information Collection Activities; Request for Comments; Renewed Approval of Information Collection: Aircraft Liability Insurance

AGENCY: Office of the Secretary, DOT.

ACTION: Notice; correction.

SUMMARY: The Office of the Secretary published a document in the Federal Register on December 7, 2010, concerning a request for renewal of a previously approved information collection. We are correcting the document as set forth below.

FOR FURTHER INFORMATION CONTACT: Lauralyn Remo, Chief, Air Carrier Fitness Division (X-56), Office of Aviation Analysis, Office of the Secretary, U.S. Department of Transportation, 1200 New Jersey Avenue, SE., Washington, DC 20590, (202) 366-9721.

Correction

In the December 7, 2010, Federal Register [75 FR 76066], correct the Estimated Total Burden on Respondents to read:

Estimated Total Burden on Respondents: 3,450 hours.

Issued in Washington, DC on January 31, 2011.
Todd M. Homan,
Director, Office of Aviation Analysis.

[FR Doc. 2011-2700 Filed 2-7-11; 8:45 am]

BILLING CODE 4910-9X-P